DEPARTMENT OF HEALTH AND HUMAN SERVICES

National Institutes of Health

Center for Scientific Review Amended; Notice of Meeting

Notice is hereby given of a change in the meeting of the Center for Scientific Review Special Emphasis Panel, Synthetic and Biological Chemistry A, October 21, 2013, 12:00 p.m. to October 21, 2013, 01:00 p.m., Hotel Palomar, 2121 P Street NW., Washington, DC 20037 which was published in the Federal Register on September 26, 2013, 78 FR 59362.

The meeting will be held at the National Institutes of Health, 6701 Rockledge Dr., Bethesda, MD 20892. The meeting will be held on December 18, 2013 at 3:00 p.m. and end December 18, 2013 at 4:00 p.m. The meeting is closed to the public.

Dated: November 8, 2013.
Anna Snouffer,
Deputy Director, Office of Federal Advisory Committee Policy.

[FR Doc. 2013-27355 Filed 11-14-13; 8:45 am]

BILLING CODE 4140-01-P